DEPARTMENT OF TRANSPORTATION

Coast Guard

33 CFR Parts 1, 25, 54, 62, 64, 66, 67, 72, 100, 114, 117, 120, 151, 154, 159, 164, and 165

[USCG-2001-9286]

Technical Amendments; Organizational Changes; Miscellaneous Editorial Changes and Conforming Amendments

AGENCY: Coast Guard, DOT.

ACTION: Final rule.

SUMMARY: This rule makes editorial and technical changes throughout title 33 of the Code of Federal Regulations (CFR) to update the title before it is recodified on July 1, 2001. It corrects addresses, updates cross-references, makes conforming amendments, and makes other technical corrections. This rule will have no substantive effect on the regulated public.

DATES: This final rule is effective June 30, 2001.

ADDRESSES: Documents as indicated in this preamble are available for inspection or copying at the Docket Management Facility, (USCG-2001-9286), U.S. Department of Transportation, room PL-401, 400 Seventh Street SW., Washington, DC, 20590-0001, between 9 a.m. and 5 p.m., Monday through Friday, except Federal holidays. You may also find this docket on the Internet at http://dms.dot.gov.

FOR FURTHER INFORMATION CONTACT: If you have questions on this rule, call Robert Spears, Project Manager, Standards Evaluation and Development Division (G-MSR-2), Coast Guard, telephone 202-267-1099. If you have questions on viewing, or submitting material to, the docket, call Dorothy Beard, Chief, Dockets, Department of Transportation, telephone 202-366-5149.

SUPPLEMENTARY INFORMATION:

Regulatory Information

We did not publish a notice of proposed rulemaking (NPRM) for this regulation. Under 5 U.S.C. 553(b)(B), the Coast Guard finds that good cause exists for not publishing an NPRM. This rule consists only of corrections and editorial and conforming amendments to title 33 of the Code of Federal Regulations (CFR). These changes will have no substantive effect on the public and publishing an NPRM and providing an opportunity for public comment is unnecessary. Under 5 U.S.C. 553(d)(3), the Coast Guard finds that, for the same reasons, good cause exists for making this rule effective less than 30 days after publication in the Federal Register.

Discussion of the Rule

Each year title 33 of the Code of Federal Regulations is recodified on July 1. This rule makes editorial changes throughout the title, corrects addresses, updates cross-references, and makes other technical and editorial corrections to be included in the recodification. It does not change any substantive requirements of existing regulations. Some editorial changes are discussed individually in the following paragraphs.

Sections 1.07-90 and 1.07-95. These sections are amended to incorporate the recent delegation to Coast Guard Area and Maintenance & Logistics Command Commanders to refer civil penalty cases to the Department of Justice.

Part 25. This part, on the procedures for the administrative settlement of claims against the Coast Guard, is amended to reference the separate set of requirements for claims against the Oil Spill Liability Trust Fund in 33 CFR part 136 and to update various addresses.

Section 64.13. The reference in paragraph (a) to “§ 64.10-1” is corrected to read “§ 64.11”, because § 64.10-1 was redesignated as § 64.11 in 57 FR 43402, September 21, 1992.

Section 100.901. The entries in table 1 for “Geneva Offshore Grand Prix,” “Offshore Series Grand Prix,” “Cleveland Charity Classic,” and “Cleveland Offshore Grand Prix” are removed because these events have not been held for several years and no longer qualify for inclusion in this list of annually recurring events.

Sections 120.305, 120.307, and 120.309. The function of examining passenger vessel security plans was transferred from the National Maritime Center to the Marine Safety Center.

Section 165.903. This section lists the geographical coordinates defining the location of certain safety zones in the Cleveland, Ohio, area. In addition to listing a coordinate, this section identifies familiar structures, such as marinas or restaurants in the area to help the boater more easily locate the point. Some of the structures mentioned have been renamed. This rule incorporates the new names. The actual location of the safety zones, as identified by the coordinates, is not being changed.

Sections 159.4, 159.12, 159.15, 159.17, 159.19, and 159.97. These address changes result from the transfer of the responsibility for equipment approvals from Commmandant (G-MSE) to the Engineering Systems Division of the Marine Safety Center.

Part 165, subpart F. The heading “Thirteenth Coast Guard District” was incorrectly placed in the CFR so as to include §§ 165.1115 and 165.1116 in the wrong Coast Guard District. This change corrects that error.

Part 173, appendix A. Because the vessel numbering and casualty reporting systems for Alaska and the Northern Mariana Islands are now approved, their names are added to the list of State issuing and reporting authorities in appendix A.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this rule to be so minimal that a full Regulatory Evaluation under paragraph 10e of the regulatory policies and procedures of DOT is unnecessary. As this rule involves internal agency practices and procedures, it will not impose any costs on the public.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraphs (34)(a) and (b) of Commandant Instruction M16475.lC, this rule is categorically excluded from further environmental documentation. These regulations are editorial or procedural and concern internal agency functions and organization. A “Categorical Exclusion Determination” is available in the docket where indicated under ADDRESSES.

List of Subjects

33 CFR Part 1

Administrative practice and procedure, Authority delegations (Government agencies), Freedom of information, Penalties.

33 CFR Part 25

Authority delegations (Government agencies), Claims.

33 CFR Part 54

Reporting and recordkeeping requirements, Vessels.

33 CFR Part 62

Navigation (water).

33 CFR Part 64

Navigation (water), Reporting and recordkeeping requirements.

33 CFR Part 66

Intergovernmental relations, Navigation (water), Reporting and recordkeeping requirements.

33 CFR Part 67

Continental shelf, Navigation (water), Reporting and recordkeeping requirements.

33 CFR Part 72

Government publications, Navigation (water).

33 CFR Part 100

Marine safety, Navigation (water), Reporting and recordkeeping requirements, Waterways.

33 CFR Part 114

Bridges.

33 CFR Part 117

Bridges.

33 CFR Part 120

Security, Passenger vessels, Reporting and recordkeeping requirements.

33 CFR Part 151

Administrative practice and procedure, Oil pollution, Penalties, Reporting and recordkeeping requirements, Water pollution control.

33 CFR Part 154

Fire prevention, Hazardous substances, Oil pollution, Reporting and recordkeeping requirements.

33 CFR Part 159

Sewage disposal, Vessels.

33 CFR Part 164

Marine safety, Navigation (water), Reporting and recordkeeping requirements, Seamen, Security measures, Waterways.

33 CFR Part 165

Harbors, Marine safety, Navigation (water), Reporting and recordkeeping requirements, Security measures, Waterways.

33 CFR Part 173

Marine safety, Reporting and recordkeeping requirements.

For the reasons discussed in the preamble, the Coast Guard amends 33 CFR parts 1, 25, 54, 62, 64, 66, 67, 72, 100, 114, 117, 120, 151, 154, 159, 164, 165, and 173 as follows:

PART 1—GENERAL PROVISIONS

1. The authority citation for part 1, subpart 1.07, continues to read as follows:

Authority: 14 U.S.C. 633; Sec. 6079(d), Pub. L. 100-690, 102 Stat. 4181; 49 CFR 1.46.

§ 1.07-90 [Amended]

2. In § 1.07-90, in paragraph (b) introductory text, remove the words “the District Commander is” and add, in their place, the words “the Area, Maintenance & Logistics Command (MLC), and District Commanders are”; and, in paragraph (c), before the words “District Commander”, add the words “Area, MLC, or”.

§ 1.07-95 [Amended]

3. In § 1.07-95, in paragraph (a), remove the words “the District Commander is” and add, in their place, the words “the Area, MLC, and District Commanders are” and, in paragraph (b), before the words “District Commander”, add the words “Area, MLC, or”.

PART 25—CLAIMS

4. The authority citation for part 25 continues to read as follows:

Authority: 14 U.S.C. 633; 49 CFR 1.45(a); 49 CFR 1.45(b); 49 CFR 1.46(b), unless otherwise noted.

5. Revise § 25.101 to read as follows:

§ 25.101 Purpose.

This subpart prescribes the requirements for the administrative settlement of claims against the United States, other than claims against the Oil Spill Liability Trust Fund under part 136 of this chapter and contract claims, but including claims arising from acts or omissions of employees of non-appropriated fund activities within the United States, its territories, and possessions.

§ 25.103 [Amended]

6. In § 25.103, after the words “Atlantic” and “Pacific”, add “(lc)”.

7. In § 25.111, in paragraph (b) introductory text, after the words “Atlantic” and “Pacific”, add “(lc)”; and revise paragraph (b)(3) to read as follows:

§ 25.111 Action by claimant.

(b) * * *

(3) Chief, Office of Claims and Litigation, Chief Counsel, United States Coast Guard, 2100 Second Street, SW., Washington, DC, 20593.

* * * * *

§ 25.131 [Amended]

8. In § 25.131(b), remove the word “Comptroller” and add, in its place, the words “Director of Finance and Procurement”.

PART 54—ALLOTMENTS FROM ACTIVE DUTY PAY FOR CERTAIN SUPPORT OBLIGATIONS

9. The authority citation for part 54 continues to read as follows:

Authority: 42 U.S.C. 665(c).

§ 54.07 [Amended]

10. In § 54.07, remove “(913) 295-2520” and add, in its place, “telephone 785-339-3595, facsimile 785-339-3788”.

PART 62—UNITED STATES AIDS TO NAVIGATION SYSTEM

11. The authority citation for part 62 continues to read as follows:

Authority: 14 U.S.C. 85; 33 U.S.C. 1233; 43 U.S.C. 1333; 49 CFR 1.46.

12. In § 62.21, revise paragraph (c)(4) as set forth below and, in paragraph (h), remove the first sentence:

§ 62.21 General.

* * * * *

(c) * * *

(4) The Notice to Mariners is a national publication, similar to the Local Notice to Mariners, published by the National Imagery and Mapping Agency. The notice may be obtained free of charge from commercial maritime sources and, upon request, to Defense Logistics Agency, Defense Supply Center Richmond, ATTN: JNB, 8000 Jefferson Davis Highway, Richmond, VA 23297-5100 or FAX 804-279-6510, ATTN: Accounts Manager, RMF. A letter of justification should be included in the request. This publication provides ocean going vessels significant information on national and international navigation and safety.

* * * * *

§ 62.51 [Amended]

13. In § 62.51(b)(3), remove “USATONS” and add, in its place, “U.S. Aids to Navigation System”.

§ 62.65 [Amended]

14. In § 62.65(c)(1), remove the word “four” and add, in its place, the word “three”.

PART 64—MARKING OF STRUCTURES, SUNKEN VESSELS AND OTHER OBSTRUCTIONS

15. The authority citation for part 64 continues to read as follows:

Authority: 14 U.S.C. 633; 33 U.S.C. 409, 1231; 42 U.S.C. 9118; 43 U.S.C. 1333; 49 CFR 1.46.

§ 64.13 [Amended]

16. In § 64.13(a), remove “§ 64.10-1” and add, in its place, “§ 64.11”.

PART 66—PRIVATE AIDS TO NAVIGATION

17. The authority citation for part 66 continues to read as follows:

Authority: 14 U.S.C. 83, 85; 43 U.S.C. 1333; 49 CFR 1.46.

§ 66.05-30 [Amended]

18. In § 66.05-30(b), remove the words “U.S. Coast and Geodetic Survey” and add, in their place, the words “National Ocean Service”.

PART 67—AIDS TO NAVIGATION ON ARTIFICIAL ISLANDS AND FIXED STRUCTURES

19. The authority citation for part 67 continues to read as follows:

Authority: 14 U.S.C. 85, 633; 43 U.S.C. 1333; 49 CFR 1.46.

20. Revise § 67.50-25(e) to read as follows:

§ 67.50-25 Eighth Coast Guard District.

* * * * *

(e) Applications. All applications for private aids to navigation and all correspondence dealing with private aids to navigation and obstruction lighting must be addressed to Commander (oan), Eighth Coast Guard District, Hale Boggs Federal Building, 501 Magazine Street, New Orleans, Louisiana 70130-3396.

* * * * *

PART 72—MARINE INFORMATION

21. The authority citation for part 72 continues to read as follows:

Authority: 14 U.S.C. 93, 49 CFR 1.46.

22. Revise § 72.01-10(c) to read as follows:

§ 72.01-10 Notice to Mariners.

* * * * *

(c) This notice may be obtained free of charge from commercial maritime sources and upon request to the Defense Logistics Agency, Defense Supply Center Richmond, ATTN: JNB, 8000 Jefferson Davis Highway, Richmond, VA 23297-5100 or FAX 804-279-6510, ATTN: Accounts Manager, RMF. Request should be based on affirmative need for the information.

23. In § 72.01-25, in paragraph (a), remove “publication 117A and 117B” and add, in its place, “Publication 117” and revise paragraph (b) to read as follows:

§ 72.01-25 Marine broadcast notice to mariners.

* * * * *

(b) Any person may purchase “Radio Navigational Aids” online from the U.S. Government Online Bookstore at http://bookstore.gpo.gov, by Fax at 202-521-2250, or by telephone at 202-512-1800. Send mail orders including payment to U.S. Government Printing Office, Superintendent of Documents, P.O. Box 371954, Pittsburgh, PA 15250-1954.

* * * * *

24. Revise § 72.05-1(a)(1), (a)(2), and (a)(3) to read as follows:

§ 72.05-1 Purpose.

(a) * * *

(1) Volume I, Atlantic Coast, from St. Croix River, Maine, to Shrewsbury River, New Jersey.

(2) Volume II, Atlantic Coast, from Shrewsbury River, New Jersey, to Little River, South Carolina.

(3) Volume III, Atlantic and Gulf Coasts, from Little River, South Carolina, to Econfina River, Florida, including Puerto Rico and the U.S. Virgin Islands.

* * * * *

25. Revise § 72.05-5 to read as follows:

§ 72.05-5 Sales agencies.

Each volume of the Light List is for sale by the Superintendent of Documents, Government Printing Office, and can be ordered online from the U.S. Government Online Bookstore at http://bookstore.gpo.gov, by Fax at 202-521-2250, or by telephone at 202-512-1800. Send mail orders including payment to U.S. Government Printing Office, Superintendent of Documents, P.O. Box 371954, Pittsburgh, PA 15250-1954. Notification of publication of a new edition of the Light List is published in the “Local Notices to Mariners” and “Notice to Mariners” for the particular area that is covered as soon as the edition is available for distribution.

PART 100—MARINE EVENTS

26. The authority citation for part 100 continues to read as follows:

Authority: 33 U.S.C. 1233; 49 CFR 1.46.

§ 100.901 [Amended]

27. In § 100.901, in table 1—

a. Under “Group Buffalo, NY:”, remove the entries for “Geneva Offshore Grand Prix” and “Offshore Series Grand Prix”; and

b. Under “Group Detroit, MI:”, remove the entries for “Cleveland Charity Classic” and “Cleveland Offshore Grand Prix”.

PART 114—GENERAL

28. The authority citation for part 114 continues to read as follows:

Authority: 33 U.S.C. 401, 491, 499, 521, 525, and 535; 14 U.S.C. 633; 49 U.S.C. 1655(g); 49 CFR 1.46(c).

§ 114.05 [Amended]

29. In § 114.05, in paragraph (d), following the word “his”, add the words “or her”; and, in paragraph (i), remove the words “has delegated his” and add, in their place, the words “or she has delegated his or her”.

§ 114.40 [Amended]

30. In § 114.40, remove the word “pretection” and add, in its place, the word “protection”.

PART 117—DRAWBRIDGE OPERATION REGULATIONS

31. The authority citation for part 117 continues to read as follows:

Authority: 33 U.S.C. 499; 49 CFR 1.46; 33 CFR 1.05-1(g); section 117.255 also issued under the authority of Pub. L. 102-587, 106 Stat. 5039.

§ 117.447 [Amended]

32. In § 117.447, following the word “hours”, add the word “notice”.

§ 117.609 [Amended]

33. In § 117.609(a), remove the word “small” and add, in its place, the word “shall”.

§ 117.697 [Amended]

34. In § 117.697(a), remove the words “by the National Oceanic and Atmospheric Administration” and add, in their place, the words “published by private entities using data provided by the National Ocean Service”.

§ 117.793 [Amended]

35. In § 117.793(c), remove the words “the National Oceanic and Atmospheric Administration (NOAA)” and add, in their place, the words “private entities using data provided by the National Ocean Service”.

§ 117.795 [Amended]

36. In § 117.795(b), remove the words “the National Oceanic and Atmospheric Administration” and add, in their place, the words “private entities using data provided by the National Ocean Service”.

PART 120—SECURITY OF PASSENGER VESSELS

37. The authority citation for part 120 continues to read as follows:

Authority: 33 U.S.C. 1231; 49 CFR 1.46.

§ 120.305 [Amended]

38. In § 120.305—

a. In paragraph (a), remove “National Maritime Center (NMC), 4200 Wilson Blvd., Suite 510, Arlington, Virginia 22203” and add, in its place, “Marine Safety Center (MSC), 400 Seventh Street, SW., room 6302, Nassif Building, Washington, DC 20590-0001”; and

b. In paragraphs (b), (c), and (d), remove “of the NMC” and add, in its place, “, Marine Safety Center”.

§ 120.307 [Amended]

39. In § 120.307(a), (b), and (c), remove “of the NMC” and add, in its place, “, Marine Safety Center”.

§ 120.309 [Amended]

40. In § 120.309, remove “of the NMC” and add, in its place, “, Marine Safety Center”.

PART 151—VESSELS CARRYING OIL, NOXIOUS LIQUID SUBSTANCES, GARBAGE, MUNICIPAL OR COMMERCIAL WASTE, AND BALLAST WATER

41. The authority citation for part 151, subpart A, continues to read as follows:

Authority: 33 U.S.C. 1321 and 1903; Pub. L. 104-227 (110 Stat. 3034), E.O. 12777, 3 CFR, 1991 Comp. p. 351; 49 CFR 1.46.

§ 151.1000 [Amended]

42. In § 151.1000, remove the word “shore” and add, in its place, the word “Shore”.

§ 151.1006 [Amended]

43. In § 151.1006, remove the words “Coastal Waters” and add, in their place, the words “Coastal waters”.

PART 154—FACILITIES TRANSFERRING OIL OR HAZARDOUS MATERIAL IN BULK

44. The authority citation for part 154 continues to read as follows:

Authority: 33 U.S.C. 1231, 1321(j)(1)(C), (j)(5), (j)(6), and (m)(2); sec. 2, E.O. 12777, 56 FR 54757; 49 CFR 1.46. Subpart F is also issued under 33 U.S.C. 2735.

§ 154.1035 [Amended]

45. In § 154.1035(b)(4)(ii)(B), remove the word “protest” and add, in its place the word “protect”.

PART 159—MARINE SANITATION DEVICES

46. The authority citation for part 159 continues to read as follows:

Authority: Sec. 312(b)(1), 86 Stat. 871 (33 U.S.C. 1322(b)(1)); 49 CFR 1.45(b) and 1.46(l) and (m).

§ 159.4 [Amended]

47. In § 159.4(a), remove “U.S. Coast Guard Office of Design and Engineering Standards (G-MSE), 2100 Second Street, SW., Washington, DC 20593-0001” and add, in its place, “Engineering Division, U.S. Coast Guard Marine Safety Center, 400 Seventh Street, SW., Washington, DC 20590”.

§§ 159.12, 159.15, 159.17, and 159.19 [Amended]

48. In §§ 159.12(c), 159.15(a) introductory text and (c), 159.17(a), and 159.19(a), remove “Commandant (G-MSE), U.S. Coast Guard, Washington, DC 20593-0001” and add, in its place, “Commanding Officer, USCG Marine Safety Center, 400 Seventh Street, SW., Washington, DC 20590”.

§ 159.97 [Amended]

49. In § 159.97, remove “Commandant” and add, in its place, “Commanding Officer, USCG Marine Safety Center,”.

PART 164—NAVIGATION SAFETY REGULATIONS

50. The authority citation for part 164 continues to read as follows:

Authority: 33 U.S.C. 1223, 1231; 46 U.S.C. 2103, 3703; 49 CFR 1.46. Sec. 164.13 also issued under 46 U.S.C. 8502. Sec. 164.61 also issued under 46 U.S.C. 6101.

§ 164.33 [Amended]

51. In § 164.33, in paragraphs (a)(3)(i) and (a)(3)(ii), following the word “by”, add the words “private entities using data provided by”; and in paragraph (c), remove the words “Defense Mapping Agency Hydrographic/Topographic Center” and add, in their place, the words “the National Imagery and Mapping Agency”.

§ 164.72 [Amended]

52. In § 164.72, in paragraph (b)(2)(ii)(B), remove the words “ Defense Mapping Agency” and add, in their place, the words “National Imagery and Mapping Agency”; and, in paragraphs (b)(2)(ii)(C) and (b)(2)(ii)(D), remove the words “by the NOS” and add, in their place, the words “private entities using data provided by the NOS”.

PART 165—REGULATED NAVIGATION AREAS AND LIMITED ACCESS AREAS

53. The authority citation for part 165 continues to read as follows:

Authority: 33 U.S.C. 1231; 50 U.S.C. 191, 33 CFR 1.05-1(g), 6.04-1, 6.04-6, 160.5; 49 CFR 1.46.

Subpart F—[Amended]

54. In subpart F, immediately following § 165.1114, remove the undesignated heading “Thirteenth Coast Guard District” and add the undesignated heading “Thirteenth Coast Guard District” immediately preceding § 165.1301.

§ 165.754 [Amended]

55. In § 165.754(b)(3), remove “(787) 729-6800 ext. 140” and add, in its place, “787-706-2444 or 787-289-2048”.

§ 165.903 [Amended]

56. In § 165.903, in paragraph (a)(1), remove the words “the end of the lot adjacent to Fagan's” and add, in their place, the words “the Holy Moses Water Taxi Landing at Fado's”; in paragraph (a)(4), remove the word “Tiffany's” and add, in its place, the words “Christie's Cabaret”; and in paragraph (a)(11), remove the word “Aqua” and add, in its place, the word “Mega”.

§ 165.1101 [Redesignated]

57. Redesignate § 165.1101 as § 165.1151.

§§ 165.1102 through 165.1108 [Redesignated]

58. Redesignate §§ 165.1102 through 165.1108, as §§ 165.1101 through 165.1107, respectively.

§ 165.1109 [Redesignated]

59. Redesignate § 165.1109, as § 165.1152.

§ 165.1111 [Redesignated]

60. Redesignate § 165.1111 as § 165.1131.

§ 165.1112 [Redesignated]

61. Redesignate § 165.1112 as § 165.1191.

§ 165.1113 [Redesignated]

62. Redesignate § 165.1113 as § 165.1153.

§§ 165.1114 and 165.1115 [Redesignated]

63. Redesignate §§ 165.1114 and 165.1115 as §§ 65.1181 and 165.1182, respectively.

§ 165.1116 [Redesignated]

64. Redesignate § 165.1116 as § 165.1171.

§ 165.1403 [Amended]

65. In § 165.1403(a), in the note, remove “DMA” and add, in its place, “NOAA”.

PART 173—VESSEL NUMBERING AND CASUALTY AND ACCIDENT REPORTING

66. The authority citation for part 173 continues to read as follows:

Authority: 31 U.S.C. 9701; 46 U.S.C. 2110, 6101, 12301, 12302; OMB Circular A-25; 49 CFR 1.46.

Appendix A to Part 173—[Amended]

67. In appendix A to part 173—

a. In paragraph (a), add, in alphabetical order, the entry “Alaska-AK” and the entry “Northern Mariana Islands-CM” and remove the entry “Guam-GM” and add, in its place, the entry “Guam-GU”; and

b. In paragraph (b), remove the entry “Alaska-AK”.

Dated: June 15, 2001.
Joseph J. Angelo,
Acting Assistant Commandant for Marine Safety and Environmental Protection.

[FR Doc. 01-15657 Filed 6-22-01; 8:45 am]

BILLING CODE 4910-15-U